DEPARTMENT OF THE INTERIOR

Bureau of Land Management

[LLUT980300-L11200000-PH0000-24-1A]

Notice of Utah's Recreation Resource Advisory Council/Resource Advisory Council Meeting

AGENCY: Bureau of Land Management, Interior.

ACTION: Notice of meeting.

SUMMARY: In accordance with the Federal Land Policy and Management Act (FLPMA) and the Federal Advisory Committee Act of 1972 (FACA), the U.S. Department of the Interior, Bureau of Land Management's (BLM) Utah Recreation Resource Advisory Council (RecRAC)/Resource Advisory Council (RAC) will meet as indicated below.

DATES: The RAC will meet on February 21, 2013, from 1:00-5:00 p.m., and the RecRAC/RAC will meet on February 22, 2013, from 8:30 a.m. to 4:00 p.m.

ADDRESSES: The meeting will be held at the BLM-Utah State Office, 440 West 200 South, Salt Lake City, Utah, in the Monument Conference Room on the fifth floor.

FOR FURTHER INFORMATION CONTACT: Sherry Foot, Special Programs Coordinator, Utah State Office, Bureau of Land Management, 440 West 200 South, Salt Lake City, Utah 84101; phone (801) 539-4195; sfoot@blm.gov.

SUPPLEMENTARY INFORMATION: On February 21, agenda topics will include current events within BLM Utah; an update on alternatives for regional planning through 2015 and interim guidance for Utah on Sage-grouse; an update on the draft strategic plan for Utah public lands within the BLM's National Landscape Conservation System; and the RAC's involvement with the Utah Film Commission.

On February 22, the RecRAC will listen to fee presentations from the BLM Monticello Field Office, which is proposing to increase fees for recreational boating on the San Juan River in San Juan County, Utah; the BLM Red Cliffs National Conservation Area, which is proposing to increase fees at the Red Cliffs Recreation Area in Washington County, Utah; and the Manti-La Sal National Forest, which is proposing to increase fees at the Seely Guard Station in Emery County, Utah. An additional topic will cover updates on the St. George/Cedar City Resource Management Plans.

The public may address the RecRAC/RAC during a public comment period from 10:45-11:15 a.m. Written comments may also be sent to the BLM at the address listed in the FOR FURTHER INFORMATION CONTACT section of this notice. The meeting is open to the public; however, transportation, lodging, and meals are the responsibility of the participating individuals.

Following the business meeting, a BLM-Utah State Director's awards function for invited guests will recognize public land partners and outgoing RAC members.

Jenna Whitlock,
Associate State Director.

[FR Doc. 2013-01572 Filed 1-24-13; 8:45 am]

BILLING CODE 4310-DQ-P